SMALL BUSINESS ADMINISTRATION

[Disaster Declaration #15982 and #15983; Arkansas Disaster Number AR-00104]

Presidential Declaration of a Major Disaster for the State of Arkansas

AGENCY: U.S. Small Business Administration.

ACTION: Notice.

SUMMARY: This is a Notice of the Presidential declaration of a major disaster for the State of Arkansas (FEMA-4441-DR), dated 06/08/2019.

Incident: Severe Storms and Flooding.

Incident Period: 05/21/2019 and continuing.

DATES: Issued on 06/08/2019.

Physical Loan Application Deadline Date: 08/07/2019.

Economic Injury (EIDL) Loan Application Deadline Date: 03/09/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 06/08/2019, applications for disaster loans may be filed at the address listed above or other locally announced locations.

The following areas have been determined to be adversely affected by the disaster:

Primary Counties (Physical Damage and Economic Injury Loans): Conway, Crawford, Faulkner, Jefferson, Perry, Pulaski, Sebastian, Yell

Contiguous Counties (Economic Injury Loans Only):

Arkansas: Arkansas, Cleburne, Cleveland, Franklin, Garland, Grant, Lincoln, Logan, Lonoke, Madison, Montgomery, Pope, Saline, Scott, Van Buren, Washington, White

Oklahoma: Adair, Le Flore, Sequoyah

The Interest Rates are:

| Percent
For Physical Damage:
Homeowners with Credit Available Elsewhere | 3.875
Homeowners without Credit Available Elsewhere | 1.938
Businesses with Credit Available Elsewhere | 8.000
Businesses without Credit Available Elsewhere | 4.000
Non-Profit Organizations with Credit Available Elsewhere | 2.750
Non-Profit Organizations without Credit Available Elsewhere | 2.750
For Economic Injury:
Businesses & Small Agricultural Cooperatives Without Credit Available Elsewhere | 4.000
Non-Profit Organizations Without Credit Available Elsewhere | 2.750

The number assigned to this disaster for physical damage is 15982B and for economic injury is 159830.

(Catalog of Federal Domestic Assistance Number 59008)

Jerome Edwards,
Acting Associate Administrator for Disaster Assistance.

[FR Doc. 2019-12602 Filed 6-13-19; 8:45 am]

BILLING CODE 8206-03-P